DEPARTMENT OF HEALTH AND HUMAN SERVICES

45 CFR Parts 155 and 156

[CMS-9922-F]

RIN 0938-AT53

Patient Protection and Affordable Care Act; Exchange Program Integrity

Correction

In rule document 2019-27713, appearing on pages 71674 through 71711, in the issue of Friday, December 27, 2019 make the following correction:

§ 156.280 [Corrected]

On page 71710, in the third column, in the second paragraph from the bottom of the page, on the second line, “June 27, 2019” should read “June 27, 2020”.

[FR Doc. C1-2019-27713 Filed 1-16-20; 8:45 am]

BILLING CODE 1301-00-D